DEPARTMENT OF THE INTERIOR

Bureau of Land Management

[MT-010-1220-AD]

Recreation Management Restrictions, etc: Yellowstone County, MT; Firearms Target Shooting Emergency Closure

AGENCY: Bureau of Land Management, Billings Field Office, Montana State Office.

ACTION: Notice of emergency closure of firearms target shooting on certain public lands administered by the Bureau of Land Management in Yellowstone County, Montana.

SUMMARY: Notice is hereby given that certain areas are closed to firearms target shooting from October 1, 2002, to September 30, 2003, to protect public safety and natural resources. The closed areas are Shepherd Ah-Nei, 21-Mile, and Acton Ah-Nei areas and are legally described as:

That area of public lands commonly referred to the “Shepherd Area,” or “Shepherd Ah Nei” located at:

T 4 N, R 27 E, Sec 24, NE¼, S½; Sec 25, all. Sec 36, all.

T 3 N, R 27 E, Sec 1, all.

T 4 N, R 28 E, Sec 19, all. Sec 20, W½. Sec 30, Lots 1, 2, N½NE¼. Sec 31, all

T 3 N, R 28 E, Sec 6, Lots 3, 4, 7, 8, 9, 10, 11, 12, E½, Principal Montana Meridian, and

That area of public lands commonly referred to the “21-Mile Area ” located north of Billings and west of the Roundup Road, Highway 87 North and the 21 Mile Road at:

T 4 N, R 25 E, Sec 24, all. Principal Montana Meridian, and

That area of public lands commonly referred to as the “Acton Area” or “Acton Ah-Nei” located east of Broadview, Montana at:

T 4 N, R 25 E, Sec 31, E½.

T 3 N, R 25 E, Sec 5, all, Sec 6, Lots 1, 2, S½, NE¼; Sec 7, Lots 1, 2, E½ NW¼, E½ SW¼, E½; Sec 8, all. Sec 9, all. Sec 17, all.

Sec 20, N½ N½. Principal Montana Meridian, all in Yellowstone County, in the State of Montana.

Closure signs will be posted at the major entry points to this area. Maps of the closure and information may be obtained from the Billings Field Office.

DATES: This closure will be in effect from October 1, 2002, to September 30, 2003, unless superceded by permanent rulemaking action.

Discussion of the Emergency Closure: This emergency closure is necessary for the management of actions, activities, and public use on certain public lands which may have, or are having, adverse impacts on persons using public lands, on property, and on resources located on public lands until permanent management action can be taken. Increasing levels of public use are creating conflicts between different user groups. The subject lands are utilized for recreational hiking, horseback riding, mountain biking, off-highway vehicle use, wildlife observation, hunting, and target shooting.

While hikers, horseback riders, mountain bicyclists and other users can schedule their use around published hunting seasons for safety reasons, they are not able to avoid random target shooting. Local conditions including heavy timber and rough terrain reduce visibility and increase the hazard to other users from target shooters. Recent incidents involving random target shooting have resulted in endangerment and injury to other users. In addition, resource damage is occurring from the accumulation of debris from target materials. To reduce the incidence of future conflicts, three areas of public land known as the Acton Area, 21-Mile Area, and Shepherd Ah-Nei, located north of Billings, Montana are being closed to target shooting with firearms. These areas will remain open to hunting by licensed hunters during seasons administered by the Montana Department of Fish, Wildlife and Parks.

This emergency closure does not apply to other lands, specifically the “17-Mile” area located west of Highway 87, north of Billings, Montana, on the Crooked Creek Road.

SUPPLEMENTARY INFORMATION: Under the authority of 43 CFR 9268.3(d)(1)(i) and 43 CFR 8364.1(a) the Bureau of Land Management will enforce the following emergency closure on public lands within the closed area.

Emergency Closure

1.0 Emergency Closure of Certain Public Lands to Target Shooting.

The following is prohibited:

The discharge of firearms for the purpose of target shooting.

(2.0) Exceptions:

(a) This regulation does not apply to the hunting of lawful game by licensed hunters during seasons administered by the Montana Department of Fish, Wildlife and Parks.

(b) This regulation does not apply to archery marksmanship at fixed targets affixed to a backstop sufficient to stop and hold target or broad-head arrows or the use of compressed gas paintball projectors.

(c) This regulation does not apply to special target shooting events, which may be authorized by the authorized officer under special permit.

Penalties: The authority for this closure is found under section 303(a) of the Federal Land Policy and Management Act of 1976 (43 U.S.C 1733 (a) and 43 CFR 9268.3(e)(2), 43 CFR 8360.0-7, and 43 CFR 8365.1-6. Violations of this regulation are punishable by a fine in accordance with the Sentencing Reform Act of 1984 (18 U.S.C. 3551 et seq.), and/or imprisonment not to exceed 12 months for each offense.

Dated: September 10, 2002.
Sandra S. Brooks,
Field Office Manager, Billings Field Office.

FOR FURTHER INFORMATION CONTACT: Sandra S. Brooks, Field Manager, BLM, Billings Field Office, P.O. Box 36800, 5001 Southgate Drive, Billings, MT 50107-6800 or call 406-896-5013.

[FR Doc. 02-30993 Filed 12-6-02; 8:45 am]

BILLING CODE 4310-$$-P